DEPARTMENT OF COMMERCE

Economic Development Administration

Proposed Information Collection; Comment Request; Requirements for Approved Construction Investments

AGENCY: Economic Development Administration, Department of Commerce.

ACTION: Notice.

SUMMARY: The Economic Development Administration (EDA or the Agency), Department of Commerce, as part of its continuing effort to reduce paperwork and respondent burden, invites the general public and other Federal agencies to comment on a proposed extension of an information collection request approved through September 30, 2018, as required by the Paperwork Reduction Act of 1995 (PRA).

DATES: Written comments must be submitted on or before July 3, 2018.

ADDRESSES: Direct all written comments to Jennifer Jessup, Departmental Paperwork Clearance Officer, Department of Commerce, Room 6616, 14th and Constitution Avenue NW, Washington, DC 20230 (or via email at PRAcomments@doc.gov).

FOR FURTHER INFORMATION CONTACT: Requests for additional information or copies of the information collection instrument and instructions should be directed to Bernadette Grafton, Program Analyst, U.S. Department of Commerce, Economic Development Administration Performance and National Programs Division, 1401 Constitution Avenue NW, Suite 71030, Washington, DC 20230 (or via email at bgrafton@eda.gov).

SUPPLEMENTARY INFORMATION:

I. Abstract

The mission of the EDA is to lead the federal economic development agenda by promoting innovation and competitiveness, preparing American regions for growth and success in the worldwide economy. EDA accomplishes this mission by helping states, regions, and communities through capacity building, planning, infrastructure, research grants, and strategic initiatives. Further information on EDA's program and grant opportunities can be found at www.eda.gov.

EDA may award assistance for construction projects through its Public Works and Economic Adjustment Assistance (EAA) Programs. Public Works Program investments help support the construction or rehabilitation of essential public infrastructure and facilities necessary to generate or retain private sector jobs and investments, attract private sector capital, and promote vibrant economic ecosystems, regional competitiveness and innovation. The EAA Program provides a wide range of technical, planning and infrastructure assistance in regions experiencing adverse economic changes that may occur suddenly or over time.

In order to effectively administer and monitor its economic development assistance programs, EDA collects certain information from applications for, and recipients of, EDA investment assistance. Through this notice, EDA seeks comments from the public and other Federal agencies on a request for an extension of the series of checklists and templates (formerly referred to as the “bluebook”) that constitute EDA's post-approval construction tools and the Standard Terms and Conditions for Construction Projects. These checklists and templates, as well as any special conditions incorporated into the terms and conditions at the time of award, supplement the requirements that apply to EDA-funded construction projects. This information collection is scheduled to expire on September 30, 2018.

II. Method of Collection

The checklists and templates are collected via both paper and electronic submissions. These checklists and templates, as well as any special conditions incorporated into the terms and conditions at the time of award, supplement the requirements that apply to EDA-funded construction projects.

As a part of this renewal process, EDA plans to make clarifying edits to the series of checklists and templates, including updates necessitated by issuance of the Uniform Administrative Requirements, Cost Principles, and Audit Requirements for Federal Awards as set forth in 2 CFR part 200. The edits will also increase the clarity of the provided instructions and thus facilitate timely completion by the recipient and approval by EDA. None of the edits are expected to increase the time burden on the respondent nor do the modifications change the type of information collected.

III. Data

OMB Control Number: 0610-0096.

Form Number(s): None.

Type of Review: Regular submission; revision of a currently approved collection.

Affected Public: Current recipients of EDA construction (Public Works or Economic Assistance Adjustment) awards, to include (1) cities or other political subdivisions of a state, including a special purpose unit of state or local government engaged in economic or infrastructure development activities, or a consortium of political subdivisions; (2) states; (3) institutions of higher education or a consortium of institutions of higher education; (4) public or private non-profit organizations or associations; (5) District Organizations; and (6) Indian Tribes or a consortia of Indian Tribes.

Estimated Number of Respondents: 4,200.

Estimated Time per Response: 2 hours.

Estimated Total Annual Burden Hours: 8,400 hours.

Type of submission | Number of submissions | Hours per submission | Total estimated hours
600 open construction grants | 7 | 2 hours | 8,400

Estimated Total Annual Cost to Public: $0.

IV. Request for Comments

Pursuant to section 3506(c)(2)(A) of the PRA (44 U.S.C. 3501 et seq.), comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and may be included in the request for Office of Management and Budget approval of this information collection; they also will become a matter of public record.

Sheleen Dumas,
Departmental Lead PRA Officer, Office of the Chief Information Officer.

[FR Doc. 2018-09537 Filed 5-3-18; 8:45 am]

BILLING CODE 3510-34-P